DEPARTMENT OF TRANSPORTATION

Federal Aviation Administration

14 CFR Part 71

[Docket No. FAA-2024-1857; Airspace Docket No. 19-ANM-99]

RIN 2120-AA66

Modification of Class D and Class E Airspace; Revocation of Class E Airspace; Buckley Space Force Base, Aurora, CO

AGENCY: Federal Aviation Administration (FAA), DOT.

ACTION: Final rule.

SUMMARY: This action modifies the Class D airspace and Class E airspace designated as a surface area and revokes the Class E airspace designated as an extension to the Class D or Class E surface area at Buckley Space Force Base, Aurora, CO. Additionally, this action modifies the administrative portions of the airport's legal descriptions to match the FAA's database. These actions will support the safety and management of instrument flight rules (IFR) and visual flight rules (VFR) operations at the airport.

DATES: Effective date 0901 UTC, February 20, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith T. Adams, Federal Aviation Administration, Western Service Center, Operations Support Group, 2200 S 216th Street, Des Moines, WA 98198; telephone: (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class D airspace and Class E airspace designated as a surface area and revokes Class E airspace designated as an extension to the Class D or Class E surface area to support IFR and VFR operations at Buckley Space Force Base, Aurora, CO.

History

The FAA published an NPRM for Docket No. FAA-2024-1857 in the Federal Register (89 FR 73022; September 09, 2024), proposing to amend the Class D airspace and Class E airspace designated as a surface area and revoke the Class E airspace designated as an extension to the Class D or Class E surface area Buckley Space Force Base, Aurora, CO. Interested parties were invited to participate in this rulemaking effort by submitting written comments on the proposal to the FAA. Two comments were received in favor of the proposal.

Incorporation by Reference

Class D, E2, and E4 airspace designations are published in paragraphs 5000, 6002, and 6004, respectively, of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by modifying the Class D airspace and Class E airspace designated as a surface area and revoking the Class E airspace designated as an extension to the Class D or Class E surface area at Buckley Space Force Base, CO.

The lateral boundaries of the airport's Class D and Class E surface areas are insufficiently sized and expanded to the southeast to better contain IFR arrivals when less than 1,000 feet above the surface and departing IFR aircraft until reaching the next adjacent airspace. Additionally, an approximately 0.30 nautical mile gap between Class E and Class G airspaces is closed by merging the Buckley Space Force Base and Centennial Airport surface areas. As such, the Buckley Space Force Base Class D and Class E surface areas are modified to be within a 4.4-mile radius of the airport, within 2 miles northeast and 4 miles southwest of the airport's 151° bearing extending to 7.1 miles southeast, and within 4 miles south and 4.4 miles north of the airport's 270° bearing extending to 4.7 miles west, excluding that airspace within the Denver International Airport Class B and Centennial Airport Class D airspace areas.

Buckley Space Force Base's Class E airspace designated as an extension to the Class D or Class E surface area is revoked. The Class E extension is no longer required due to the expansion of the airport's surface area airspace.

Finally, the administrative portions of the airport's legal descriptions are modified to match the FAA's database. The airport's name on line two of both legal descriptions is changed to read “Buckley Space Force Base, CO.” Additionally, line four of both surface area legal descriptions now include “Denver International Airport, CO” and “Centennial Airport, CO” as references, as they are used to define the airport's surface areas.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

ANM CO D Aurora, CO [Amended]

Buckley Space Force Base, CO

(Lat. 39°42′06″ N, long. 104°45′07″ W)

Denver International Airport, CO

(Lat. 39°51′42″ N, long. 104°40′23″ W)

Centennial Airport, CO

(Lat. 39°34′12″ N, long. 104°50′57″ W)

That airspace extending upward from the surface to but not including 7,500 feet MSL within a 4.4-mile radius of the airport, within 2 miles northeast and 4 miles southwest of the airport's 151° bearing extending to 7.1 miles southeast, and within 4 miles south and 4.4 miles north of the airport's 270° bearing extending to 4.7 miles west, excluding that airspace within the Denver International Airport Class B and Centennial Airport Class D airspace areas. This Class D airspace area is effective during the specific dates and times established in advance by a Notice to Air Missions. The effective date and time will thereafter be continuously published in the Chart Supplement.

* * * * *

Paragraph 6002 Class E Airspace Areas Designated as a Surface Area.

* * * * *

ANM CO E2 Aurora, CO [Amended]

Buckley Space Force Base, CO

(Lat. 39°42′06″ N, long. 104°45′07″ W)

Denver International Airport, CO

(Lat. 39°51′42″ N, long. 104°40′23″ W)

Centennial Airport, CO

(Lat. 39°34′12″ N, long. 104°50′57″ W)

That airspace extending upward from the surface to but not including 7,500 feet MSL within a 4.4-mile radius of the airport, within 2 miles northeast and 4 miles southwest of the airport's 151° bearing extending to 7.1 miles southeast, and within 4 miles south and 4.4 miles north of the airport's 270° bearing extending to 4.7 miles west, excluding that airspace within the Denver International Airport Class B and Centennial Airport Class D airspace areas. This Class E airspace area is effective during the specific dates and times established in advance by a Notice to Air Missions. The effective date and time will thereafter be continuously published in the Chart Supplement.

* * * * *

Paragraph 6004 Class E Airspace Areas Designated as an Extension to a Class D or Class E Surface Area.

* * * * *

ANM CO E4 Aurora, CO [Removed]

Aurora, Buckley ANG Base, CO

(Lat. 39°42′06″ N, long. 104°45′07″ W)

* * * * *

Issued in Des Moines, Washington, December 17, 2024.
B.G. Chew,
Group Manager, Operations Support Group, Western Service Center.

[FR Doc. 2024-30531 Filed 12-20-24; 8:45 am]

BILLING CODE 4910-13-P